DEPARTMENT OF STATE

[Public Notice #3983]

U.S. Advisory Commission on Public Diplomacy; Notice of Meeting

The Department of State announces the meeting of the U.S. Advisory Commission on Public Diplomacy on Friday, May 24, 2002, in Room 1408 of the U.S. Department of State at 2201 C Street, NW., Washington, DC. The meeting will take place from 10:00 a.m. to 12:00 p.m.

The Commission, reauthorized pursuant to Public Law 106-113 (H.R. 3194, Consolidated Appropriations Act, 2000), will provide a general update on the effectiveness of public diplomacy initiatives as well as discuss potential areas of examination for the remainder of the Commissioners' terms of office.

Members of the general public may attend the meeting, though attendance of public members will be limited to the seating available. Access to the building is controlled, and individual building passes are required for all attendees.

The U.S. Advisory Commission on Public Diplomacy is a bipartisan Presidentially appointed panel created by Congress in 1948 to provide oversight of U.S. Government activities intended to understand, inform and influence foreign publics. The Commission reports its findings and recommendations to the President, the Congress and the Secretary of State and the American people. Current commission members include Harold Pachios of Maine, who is the chairman; Charles Dolan of Virginia, who is the vice chairman; Penne Percy Korth of Washington, DC; Lewis Manilow of Illinois; and Maria Elena Torano of Florida.

To attend the meeting, please contact Matt Lauer at (202) 619-4463. For more information visit www.state.gov/r/adcompd.

Dated: May 8, 2002.
Matthew Lauer,
Executive Director, U.S. Advisory Commission on Public Diplomacy, Department of State.

[FR Doc. 02-12047 Filed 5-14-02; 8:45 am]

BILLING CODE 4710-11-P